COMMISSION ON CIVIL RIGHTS

Sunshine Act Notice

AGENCY: United States Commission on Civil Rights.

ACTION: Notice of meeting.

Date and Time: Friday, June 1, 2007; 9 a.m.

Place: U.S. Commission on Civil Rights, 624 Ninth Street, NW., Rm. 540, Washington, DC 20425.

Meeting Agenda

I. Approval of Agenda.

II. Approval of Minutes of May 11, Meeting.

III. Announcements.

IV. Staff Director's Report.

V. State Advisory Committee Issues;

• Virginia SAC.

• Michigan SAC.

VI. Future Agenda Items.

VII. Adjourn.

Briefing Agenda

School Choice, the Blaine Amendments and Anti-Catholicism;

• Introductory Remarks by Chairman.

• Speakers' Presentation.

• Questions by Commissioners and Staff Director.

Contact Person for Further Information: Manuel Alba, Press and Communications (202) 376-8582.

Dated: May 22, 2007.
David Blackwood,
General Counsel.

[FR Doc. 07-2630 Filed 5-22-07; 4:02 pm]

BILLING CODE 6335-01-P